DEPARTMENT OF TRANSPORTATION

Federal Railroad Administration

49 CFR Part 211

[Docket No. FRA-2024-0033, Notice No. 2]

RIN 2130-AC97

Federal Railroad Administration's Procedures for Waivers and Safety-Related Proceedings

AGENCY: Federal Railroad Administration (FRA), U.S. Department of Transportation (DOT).

ACTION: Notice of proposed rulemaking (NPRM); extension of comment period.

SUMMARY: On October 29, 2024, FRA published an NPRM proposing to update FRA's procedures for waivers and safety-related proceedings to define the two components of the statutory waiver and suspension standard, “in the public interest” and “consistent with railroad safety.” By this notice, FRA is extending the NPRM's comment period by 15 days.

DATES: The comment period for the NPRM published on October 29, 2024, 89 FR 85895, is extended until January 15, 2025.

ADDRESSES:

Comments: Comments related to Docket No. FRA-2024-0033 may be submitted by going to www.regulations.gov and following the online instructions for submitting comments.

Instructions: All submissions received must include the agency name and docket number or Regulatory Identification Number (RIN) for this rulemaking. All comments received will be posted without change to www.regulations.gov; this includes any personal information. Please see the Privacy Act heading in the SUPPLEMENTARY INFORMATION section of this document for Privacy Act information related to any submitted comments or materials.

Docket: For access to the docket to read background documents or comments received, go to www.regulations.gov and follow the online instructions for accessing the docket.

FOR FURTHER INFORMATION CONTACT: Veronica Chittim, Senior Attorney, Office of the Chief Counsel, at veronica.chittim@dot.gov, 202-480-3410; or Lucinda Henriksen, Senior Advisor, Office of Railroad Safety, at lucinda.henriksen@dot.gov, 202-657-2842.

SUPPLEMENTARY INFORMATION: In a November 13, 2024, letter, the American Short Line and Regional Railroad Association (ASLRRA) requested a 60-day extension of the NPRM's comment period.¹ ASLRRA stated it needs additional time to thoroughly review the NPRM and “consult with its member railroads on the feasibility of the process changes proposed in the NPRM for small businesses.”

¹ https://www.regulations.gov/document/FRA-2024-0033-0002.

In a November 25, 2024, letter, the Association of American Railroads (AAR) petitioned for a 60-day extension of the NPRM's comment period.² AAR noted that it must “address four proposed rules at the same time while operating under resource constraints due to holiday travel schedules that prevent them from giving any of the four NPRMs the attention that they deserve.”

² https://www.regulations.gov/document/FRA-2024-0033-0004.

The comment period for this NPRM is scheduled to close on December 30, 2024.³ As FRA is granting an extension for 15 days in response to ASLRRA's and AAR's requests, the comment period is now extended to January 15, 2025.

³ https://www.federalregister.gov/documents/2024/10/29/2024-24586/federal-railroad-administrations-procedures-for-waivers-and-safety-related-proceedings.

Privacy Act

In accordance with 5 U.S.C. 553(c), DOT solicits comments from the public to better inform its rulemaking process. DOT posts these comments, without edit, to www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 49 U.S.C. 20103, 20107, 20114, 20306, 20502-20504, and 49 CFR 1.89.

Issued in Washington, DC.
Allison Ishihara Fultz,
Chief Counsel.

[FR Doc. 2024-30596 Filed 12-20-24; 8:45 am]

BILLING CODE 4910-06-P